DEPARTMENT OF HEALTH AND HUMAN SERVICES

Centers for Disease Control and Prevention

Disease, Disability, and Injury Prevention and Control Special Emphasis Panel (SEP)

CK19-002, Quantifying Contact Rates and Mixing Patterns in Workers in Non-Healthcare Work Settings in the United States and CK19-004, Study to Assess the Risk of Blood Borne Transmission of Classic Forms of Creutzfeldt-Jakob Disease (CJD).

Amended Notice of Meeting

Notice is hereby given of a change in the meeting of the Disease, Disability, and Injury Prevention and Control Special Emphasis Panel (SEP); CK19-002, Quantifying Contact Rates and Mixing Patterns in Workers in Non-Healthcare Work Settings in the United States and CK19-004, Study to Assess the Risk of Blood Borne Transmission of Classic Forms of Creutzfeldt-Jakob Disease (CJD); May 7, 2019; 10:00 a.m.-5:00 p.m., (EDT) which was published in the Federal Register on December 26, 2018, Volume 83, Number 246, pages 66270.

The meeting is being amended to add CK17-005SUPP, Vector-Borne Disease Regional Centers of Excellence. The meeting is closed to the public.

Contact: Gregory Anderson, M.S., M.P.H., Scientific Review Officer, CDC, 1600 Clifton Road NE, Mailstop E60, Atlanta, Georgia 30333, (404) 718-8833, gca5@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-04823 Filed 3-14-19; 8:45 am]

BILLING CODE 4163-18-P